RAILROAD RETIREMENT BOARD

Agency Forms Submitted for OMB Review, Request for Comments

SUMMARY: In accordance with the Paperwork Reduction Act of 1995 (44 U.S.C. Chapter 35), the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

Title and purpose of information collection: Citizen-Centric Online Self-Services (CCOSS) Authorization; OMB 3220-NEW.

Section 7(b)(6) of the Railroad Retirement Act (RRA) (45 U.S.C. 231f) and 20 CFR 321 under the Railroad Unemployment Insurance Act (RUIA) permits annuitants, beneficiaries and claimants to submit mailing address and direct deposit authorizations to facilitate the Railroad Retirement Board (RRB) verification and certification of benefit payments electronically. The Government Paperwork Elimination Act requires federal agencies to provide the public with the option to submit, maintain and transact business electronically. The procedures pertaining to the RRB's authority to collection direct deposit and mailing address information to carry out RRA and RUIA benefit payment are contained in 45 U.S.C. 231 and 20 CFR 321.

The RRB propose to use Form COA-1, Change of Address (internet) to allow railroad annuitants, beneficiaries and claimants to initiate a change to their mailing address through the Citizen-Centric Online Self-Services (CCOSS) on the myRRB web portal (RRB.gov) after completing the Login.gov identify verification process. Railroad annuitants, beneficiaries and claimants can update their mailing address as needed and retirees, who have multiple residences and live temporarily at each residence for part of the year, can request two or more address changes annually. The RRB will use the information to verify the name and address of each annuitant, beneficiary and claimant entitled to receive a benefit payment.

The RRB propose to use Form DDC-1, Direct Deposit Change (internet) to allow a railroad annuitants, beneficiaries and claimants to update their direct deposit information through the Citizen-Centric Online Self-Services (CCOSS) on the myRRB web portal (RRB.gov) after completing the Login.gov identify verification process. Railroad annuitants, beneficiaries and claimants can update their direct deposit information as needed. The RRB will provide the information to the U.S. Department of the Treasury to process electronic fund transfer payments to the claimant's financial institution account.

Previous Requests for Comments: The RRB has already published the initial 60-day notice (90 FR 24167 on June 6, 2025) required by 44 U.S.C. 3506(c)(2). That request elicited no comments.

Information Collection Request (ICR)

Title: Citizen-Centric Online Self-Services (CCOSS) Authorization.

OMB Control Number: 3220-New.

Form(s) submitted: COA-1 and DDC-1.

Type of request: New collection (Request for a new OMB Control Number).

Affected public: Individuals or Households.

Abstract: Section 7(b)(6) of the Railroad Retirement Act (RRA) and 20 CFR 321 under the Railroad Unemployment Insurance Act (RUIA) permits annuitants, beneficiaries and claimants to submit new and change of direct deposit and mailing address authorizations to the Railroad Retirement Board electronically to verify and certify RRA and RUIA benefit payments.

Changes proposed: The RRB proposes new forms COA-1 and DDC-1 and not Form DOA-1 that was mistakenly published in the Initial Notice.

The burden estimate for the ICR is as follows:

Form No. | Annual responses | Time (minutes) | Burden (hours)
COA-1 | 30,395 | 8 | 4,025
DDC-1 | 37,595 | 6 | 3,760
Total | 67,990 |  | 7,785

Additional Information or Comments: Copies of the forms and supporting documents or comments regarding the information collection should be addressed to Brian Foster, Railroad Retirement Board, 844 North Rush Street, Chicago, Illinois 60611-1275 or emailed to Brian.Foster@rrb.gov.

Written comments and recommendations for the proposed information collection should be sent within 30 days of publication of this notice to www.reginfo.gov/public/do/PRAMain. Find this particular information collection by selecting “Currently under 30-day Review—Open for Public Comments” or by using the search function.

Brian Foster,
Clearance Officer.

[FR Doc. 2025-14868 Filed 8-5-25; 8:45 am]

BILLING CODE 7905-01-P